DEPARTMENT OF TRANSPORTATION

Federal Motor Carrier Safety Administration

[Docket No. FMCSA-2021-0081]

Agency Information Collection Activities; Approval of an Information Collection Request: Commercial Driver Licensing and Test Standards

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. The FMCSA requests approval to revise and renew an ICR titled, “Commercial Driver Licensing and Test Standards,” due to an increase in the number of commercial driver's license records. This ICR is needed to ensure that drivers, motor carriers and the States are complying with notification and recordkeeping requirements for information related to testing, licensing, violations, convictions, and disqualifications and that the information is accurate, complete, transmitted, and recorded within certain time periods as required by the Commercial Motor Vehicle Safety Act of 1986 (CMVSA), as amended.

DATES: Comments on this notice must be received on or before January 5, 2022.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Ms. Isabella Marra, Transportation Specialist, Office of Safety Programs, Commercial Driver's License Division (MC-ESL), DOT, FMCSA, 6th Floor, West Building, 1200 New Jersey Avenue SE, Washington, DC 20590-0001; 202-366-9579; isabella.marra@dot.gov.

SUPPLEMENTARY INFORMATION:

Title: Commercial Driver Licensing and Test Standards.

OMB Control Number: 2126-0011.

Type of Request: Revision of the currently approved information collection.

Respondents: Drivers with a commercial learner's permit (CLP) or commercial driver's license (CDL) and State driver licensing agencies.

Estimated Number of Respondents: 7,696,360 driver respondents and 22,886 State respondents.

Estimated Time per Response: Varies, ranges from 5 seconds to 40 hours.

Expiration Date: December 31, 2021.

Frequency of Response: Varies.

Estimated Total Annual Burden: 2,700,901 hours, which is the total of four tasks for CDL drivers (2,062,676 hours), added to a total of eight tasks for State driver licensing agency CDL activities (638,225 hours).

Information collection tasks and associated burden hours are as follows:

IC-1.1 Driver Notification of Convictions/Disqualifications to Employer: 503,771 hours.

IC-1.2 Driver Providing Previous Employment History to New Employer: 316,742 hours.

IC-1.3 Driver Completion of the CDL Application Form: 43,527 hours.

IC-1.4 Driver Completion of Knowledge and Skills Tests: 1,198,636 hours.

IC-2.1 State Recording of Medical Examiner's Certificate Information: 90,202 hours.

IC-2.2 State Recording of the Self Certification of Commercial Motor Vehicle (CMV) Operation: 2,987 hours.

IC-2.3 State Verification of Medical Certification Status: 5,330 hours.

IC-2.4 Annual State Certification of Compliance: 1,632 hours.

IC-2.5 State Preparing for and Participating in Annual Program Review: 10,200 hours.

IC-2.6 CDLIS/PDPS/State Recordkeeping: 289,254 hours.

IC-2.7 Knowledge and Skills Test Recordkeeping: 49,721 hours.

IC-2.8 Knowledge and Skills Test Examiner Certification: 188,899 hours.

Background: The licensed drivers in the United States deserve reasonable assurances that their fellow motorists are properly qualified to drive the vehicles they operate. Before the Commercial Motor Vehicle Safety Act of 1986 (CMVSA or the Act) (Pub. L. 99-570, Title XII, 100 Stat. 3207-170, codified at 49 U.S.C. chapter 313) was signed by the President on October 27, 1986, 18 States and the District of Columbia authorized any person licensed to drive an automobile to also legally drive a large truck or bus. No special training or special license was required to drive these vehicles, even though it was widely recognized that operation of certain types of vehicles called for special skills, knowledge, and training. Even in the 32 States that had a classified driver licensing system in place, only 12 of these States required an applicant to take a skills test in a representative vehicle. Equally serious was the problem of drivers possessing multiple driver licenses. By spreading their convictions among several States, commercial motor vehicle (CMV) drivers could avoid punishment for their infringements and stay behind the wheel.

The CMVSA addressed these problems by requiring the Federal government to act and place minimum standards on all jurisdictions, including the District of Columbia. Section 12002 of the Act made it illegal for a CMV operator to have more than one driver's license. Section 12003 required the CMV driver conducting operations in commerce to notify both the designated State of licensure official and the driver's employer of any convictions of State or local laws relating to traffic control (except parking tickets). This section also required the promulgation of regulations to ensure each person who applies for employment as a CMV operator to notify prospective employers of all previous employment as a CMV operator for at least the previous 10 years. In section 12005 of the Act, the Secretary of Transportation (Secretary) is required to develop minimum Federal standards for testing and licensing of operators of CMVs. Section 12007 of the Act also directed the Secretary, in cooperation with the States, to develop a clearinghouse to aid the States in implementing the one driver, one license, and one driving record requirement. This clearinghouse is known as the Commercial Driver's License Information System (CDLIS). The CMVSA further required each person who has their CDL suspended, revoked or canceled by a State, or who is disqualified from operating a CMV for any period, to notify his or her employer of such actions. Drivers of CMVs must notify their employers within 1 business day of being notified of the license suspension, revocation, and cancellation, or of the lost right to operate or disqualification. These requirements are reflected in 49 CFR part 383, titled “Commercial Driver's License Standards; Requirements and Penalties.” Specifically, section 383.21 prohibits a person from having more than one license; section 383.31 requires notification of convictions for driver violations; section 383.33 requires notification of driver's license suspensions; section 383.35 requires notification of previous employment; and section 383.37 outlines employer responsibilities. Section 383.111 requires the passing of a knowledge test by the driver and section 383.113 requires the passing of a skills test by the driver. Section 383.115 contains the requirement for the double/triple trailer endorsement; section 383.117 contains the requirement for the passenger endorsement; section 383.119 contains the requirement for the tank vehicle endorsement; and section 383.121 contains the requirement for the hazardous materials endorsement. The 10-year employment history information supplied by the CDL holder to the employer upon application for employment (49 CFR 383.35) is used to assist the employer in meeting his/her responsibilities to ensure that the applicant does not have a history of high safety risk behavior. State officials use the information collected on the license application form (49 CFR 383.71), the medical certificate information that is posted to the driving record, and the conviction and disqualification data posted to the driving record (49 CFR 383.73) to prevent unqualified and/or disqualified CDL holders from operating CMVs on the nation's highways. State officials are required to adopt and administer an FMCSA approved program for testing and ensuring the fitness of persons to operate CMVs (49 CFR 384.201). State officials are also required to administer knowledge and skills tests to CDL driver applicants (49 CFR 384.202). The driver applicant is required to correctly answer at least 80 percent of the questions on each knowledge test to achieve a passing score on that test. To achieve a passing score on the skills test, the driver applicant must demonstrate that he/she can successfully perform all the skills listed in the regulations. During State CDL program reviews, FMCSA officials review this information to ensure that the provisions of the regulations are being carried out. Without the aforementioned requirements, there would be no uniform control over driver licensing practices to prevent unqualified and/or disqualified drivers from being issued a CDL and to prevent unsafe drivers from spreading their convictions among several licenses in several States and remaining behind the wheel of a CMV. Failure to collect this information would render the regulations unenforceable.

The 60-day Federal Register notice (86 FR 49595) was published on September 3, 2021 and announced FMCSA's intent to submit the Commercial Driver Licensing and Test Standards clearance process to OMB for approval and requested comments from the public for 60 days. The FMCSA received one comment recommending FMCSA: (1) Add a minimum number of behind-the-wheel training hours to the entry level driver training regulations, (2) implement the Moving Ahead for Progress in the 21st Century (Pub. L. 112-141, MAP-21) mandate for a written proficiency exam for new motor carriers, and (3) include additional data collection elements based on those additions. The comment was filed jointly by the Truck Safety Coalition (TSC), Citizens for Reliable and Safe Highways (CRASH), Parents Against Tired Truckers (PATT), and their volunteers. This comment proposes changes to regulatory requirements, and not to the revision of the collection of information.

FMCSA contacted the commenters and notified them that their request is denied for two reasons. First, FMCSA noted that it will not be adding a minimum number of behind-the-wheel training hours to the entry level driver training regulations because there is no evidence that a certain amount of behind-the-wheel training has an impact on the safety performance of new drivers. FMCSA explained this in the Minimum Training Requirements for Entry-Level Commercial Motor Vehicle Operators (81 FR 88732) Federal Register notice. Second, the MAP-21 mandate referenced does not pertain to CDLs and is not applicable to this information collection request.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.

Thomas P. Keane,
Associate Administrator Office of Research and Registration.

[FR Doc. 2021-26410 Filed 12-3-21; 8:45 am]

BILLING CODE 4910-EX-P